DEPARTMENT OF COMMERCE

National Oceanic and Atmospheric Administration

[I.D. 051101B]

Notice of Availability of Final Stock Assessment Reports

AGENCY: National Marine Fisheries Service (NMFS), National Oceanic and Atmospheric Administration (NOAA), Commerce.

ACTION: Notice of availability of final marine mammal stock assessment reports; response to comments.

SUMMARY: NMFS has incorporated public comments into revisions of marine mammal stock assessment reports (SARs). The 2001 final SARs are now complete and available to the public.

ADDRESSES: Send requests for printed copies of reports to: Chief, Marine Mammal Conservation Division, Office of Protected Resources, National Marine Fisheries Service, 1315 East-West Highway, Silver Spring, MD 20910-3226, Attn: Stock Assessments. Copies of the Alaska Regional SARs may be requested from Robyn Angliss, Alaska Fisheries Science Center (F/AKC), NMFS, 7600 Sand Point Way, NE BIN 15700, Seattle, WA 98115-0070.

Copies of the Atlantic and Gulf of Mexico Regional SARs may be requested from Janeen Quintal, Northeast Fisheries Science Center, 166 Water St., Woods Hole, MA 02543 or Steven Swartz, Southeast Fisheries Science Center, 75 Virginia Beach Dr., Miami, FL 33149.

Copies of the Pacific Regional SARs may be requested from Tim Price, Southwest Regional Office (F/SWO3), NMFS, 501 West Ocean Boulevard, Long Beach, CA 90802-4213.

FOR FURTHER INFORMATION CONTACT: Emily Menashes, Office of Protected Resources, 301-713-2322, ext. 101, e-mail Emily.Menashes@noaa.gov; Robyn Angliss 206- 526-4032, e-mail Robyn.Angliss@noaa.gov, regarding Alaska regional stock assessments; Janeen Quintal, 508-495-2252, e-mail Janeen.Quintal@noaa.gov, regarding Northwest Atlantic regional stock assessments; Steven Swartz, 305-361-4487, e-mail Steven.Swartz@noaa.gov, regarding Mid-Atlantic and Gulf of Mexico regional stock assessments; or Tim Price, 562-980-4020, e-mail Tim.Price@noaa.gov, regarding Pacific regional stock assessments.

SUPPLEMENTARY INFORMATION:

Electronic Access

All stock assessment reports and the guidelines for preparing them are available via the Internet at http://www.nmfs.noaa.gov/prot_res/PR2/Stock_Assessment_Program/sars.html.

Background

Section 117 of the Marine Mammal Protection Act (MMPA) (16 U.S.C. 1361 et seq.) requires NMFS and the U.S. Fish and Wildlife Service (FWS) to prepare stock assessments for each stock of marine mammals that occurs in waters under the jurisdiction of the United States. These reports must contain information regarding the distribution and abundance of the stock, population growth rates and trends, estimates of annual human-caused mortality and serious injury from all sources, descriptions of the fisheries with which the stock interacts, and the status of the stock. Initial reports were completed in 1995.

The MMPA requires NMFS and FWS to review the SARs at least annually for strategic stocks and stocks for which significant new information is available and at least once every 3 years for non-strategic stocks. NMFS and the FWS are required to revise a SAR if the status of the stock has changed or can be more accurately determined.

Draft 2001 SARs were made available for a 90-day public review and comment period on June 7, 2001 (66 FR 30706). Prior to their release for public review and comment, NMFS subjected the draft reports to internal technical review and to scientific review by regional Scientific Review Groups (SRGs) established under the MMPA. Following the close of the comment period, NMFS revised the reports as needed to prepare final 2001 SARs. Printed copies may be obtained by request (see ADDRESSES).

NMFS appended the most recent versions of the SARs for polar bears, sea otters, walrus, and manatees to NMFS' final 2001 SARs. These reports were prepared by the FWS and were included so that interested constituents would have reports for all regional stocks in a single document.

Comments and Responses

NMFS received three letters containing comments on the draft 2001 SARs. Each letter contained multiple comments on stocks in each of the three regional reports. Other comments were related to national issues common among the regional reports. The comments and responses below are separated according to the regional scope of the comments.

Comments on National Issues

Comment 1: Commenters recommended additional research, monitoring, or conservation measures based on information contained in the draft SARs. For example, commenters noted that revised abundance and mortality estimates are needed for some marine mammal stocks or that additional observer coverage is needed in some fisheries. Commenters also stated that NMFS should convene additional take reduction teams.

Response: NMFS understands that abundance and mortality estimates for many stocks of marine mammals are less precise or current than if they were based on additional information. Such a situation is the unfortunate consequence of a finite budget and many conservation issues. NMFS prioritizes abundance estimates according to the age and precision of the estimate and the estimated mortality level, particularly mortality incidental to commercial fishing interactions. When annual mortality is considered to be relatively small, the priority for updating the estimate is low. In those cases in which a low mortality rate (e.g., less than 10 per year) exceeds a Potential Biological Removal (PBR) level calculated from an abundance estimate that included only a small part of the stock's range (e.g., false killer whale, Hawaiian stock), the priority for obtaining an abundance estimate is low relative to many other situations.

Other than a rotating observer program in the Alaska Region, existing observer programs are tied directly to existing take reduction plans. NMFS will not be able to implement large, new observer programs until new funds are available or until the success of the current take reduction plans makes the associated observer programs unnecessary.

Although NMFS recognizes that fishery-related mortality exceeds PBR in some stocks of marine mammals, current funding levels limit NMFS' ability to implement additional take reduction programs.

Comment 2: Commenters noted that the SARs include many stocks of marine mammals with abundance estimates that are at least 5 years old. According to the guidelines for developing SARs, the calculated PBR values should be decreased by 20 percent per year when minimum population estimates are more than 5 years old. Commenters encouraged NMFS to follow these guidelines throughout the SARs and to schedule population surveys to obtain current abundance estimates for management and to avoid these default PBR levels and their possible impacts on fisheries. Other comments also noted abundance estimates that were old and recommended that PBR be changed to zero for several stocks of marine mammals nationally.

Response: NMFS and FWS prepared guidelines for the initial stock assessment reports in 1995 and included a provision for reducing the PBR where abundance estimates were more than 5 years old. NMFS and FWS reviewed these guidelines, in consultation with the regional SRGs, after the initial reports were completed to evaluate how well the guidelines were performing and to revise as appropriate. Following the review, the guidelines were revised to state that abundance estimates older than 8 years are not reliable indicators of the current number of marine mammals in the affected stock. The revised guidelines state that PBR will be undefined when abundance estimates are more than 8 years old unless there is compelling evidence that the stock has not declined since the last abundance estimate. All assessment reports and the guidelines for preparing them are available electronically (see Electronic Access).

Comment 3: One commenter stated that some regions included all stock assessments, whether or not they are revised, while some only include those that have been revised. Some regions did not review all strategic stocks. Stock assessments for all strategic stocks must be revised annually as required by the MMPA. The commenter also stated that the MMPA requires that stock assessments for strategic stocks be reviewed annually and stipulates that updates are also warranted when new information is available that may affect the status of the stocks.

Response: MMPA section 117(c) provides that SARs are to be reviewed based on an established schedule (at least annually for strategic stocks or stocks for which significant new information is available; at least once every 3 years for all other stocks). When it is determined, based on review, that the status of the stock has changed or can be more accurately determined, the SAR must be revised.

All strategic stocks are reviewed each year. However, the stock assessment reports must be revised only when the review indicates that the status of the stock has changed or can be more accurately determined. For example, new abundance estimates or new information on fishery and/or natural mortality could result in the revision of a stock assessment report. However, NMFS routinely revises the SARs with new information even when it is not significant or does not indicate that the status of the stock has changed or can be more accurately determined.

To make it easier to find information on marine mammal stocks, NMFS is printing all SARs, revised or not, in the final SARs for each year. However, for the draft report, the regions have only been asked to include revised SARs.

Additionally, the review schedules for non-strategic stocks vary across regions. For example, the Pacific SRG requested that reports for non-strategic stocks be reviewed as a group every 3 years. The Alaska SRG requested that NMFS review and revise, as needed, one third of the reports annually so that each is reviewed every 3 years.

Comment 4: One commenter noted that the SARs only included information through 1999 and asked why it was not possible to provide more updated information.

Response: The process of preparing and reviewing SARs takes time, which results in an unfortunate but necessary lag in the data that is included in each SAR relative to when that SAR is published. NMFS staff began working on the draft 2001 SARs in the summer of 2000. At that time, the most recent full year of data were used. In the case of the 2001 SARs, 1999 data were available, but a full year of 2000 data were not yet available. The SARs were reviewed by the appropriate SRG in the fall of 2000. Based on comments received from the SRGs, the draft SARs were revised before being released for public review and comment in the summer of 2001. The draft 2001 SARs were made available for a 90-day public comment period, after which NMFS staff needed to respond to comments received and revise the SARs accordingly.

NMFS does use more updated information than is presented in the most recent final SAR. For example, the newly formed Bottlenose Dolphin Take Reduction Team is considering information about Atlantic coastal bottlenose dolphins that has been reviewed by the Atlantic SRG, but that will not be available for public review and comment in the SAR until the draft 2002 SARs are released in the spring of 2002. Similarly, information on marine mammal mortality of relevance to other Take Reduction Teams are made available for Team use prior to being published in a final SAR.

Comment 5: One commenter recommended that estimates of entanglement- or collision-related mortality should consider all available data and use analytical procedures intended to provide the best possible estimates of mortality rather than minimum estimates. The commenter specifically expressed concern about the SARs for right whales and humpback whales in the North Atlantic, which base estimates of entanglement- or collision-related mortality only on those cases where “substantial evidence” is available.

Response: NMFS uses all available data and analytical procedures to develop estimates of mortality and takes a precautionary approach by using standards for interpreting serious injuries that equate seriously injured animals with mortalities. However, it is not appropriate to apply the bycatch estimation protocols used for small cetaceans to entangled animals. Any attempt to do this with the current limited knowledge of entanglement rates would yield unreliable estimates.

It is also not correct to assume that all injuries are serious and lead to the mortality of an animal. For example, we know from scarring and other data that many entanglements are not serious. NMFS has determined that the best approach is to investigate each case individually, collecting all available information and assigning anthropogenic causes to those cases for which there is appropriate evidence.

The quality of the reports received from the field has the greatest impact on NMFS' ability to assess and injury as serious or not. NMFS is working to improve reporting on the beach by requiring stranding personnel to complete a new “Human Interaction Form” in addition to the standard Level A stranding reporting form. The new form prompts responders to look for and report indications of human interactions on stranded animals in greater detail, which should allow NMFS to make determinations with a higher degree of confidence. To address reports of entanglements and mortalities offshore, NMFS initiated a streamlined, East and Gulf coast-wide communications network involving the Coast Guard to assist in realtime reporting of events. The system will put observers in direct contact with experts who can then ask case-specific questions to thoroughly assess each event.

Comment 6: One commenter stated that NMFS should incorporate in the SARS analyses to measure the power with which observer programs can estimate mortality and serious injury levels equivalent to the potential PBR level.

Response: NMFS is aware of the limitations of the observer program to yield precise estimates of mortality rates. Considering available funding, NMFS tries to balance the need to obtain marine mammal mortality estimates for a variety of fisheries with the need to obtain mortality estimates that are as precise as possible. NMFS will consider the suggestion to include a power analysis for future SARs.

Comment 7: One commenter stated that for some stocks, it may be more efficient for NMFS to develop mechanisms to calculate PBR or a PBR-equivalent using general density or relative indices of abundance.

Response: For some stocks, NMFS has used the approach suggested by the commenter. In cases where a mortality estimate is available, but reliable abundance estimates are not, NMFS has used the PBR equation to calculate the population size that would be needed to support known mortality levels. This method provides an idea of whether the mortality level is sustainable. However, section 3(20) the MMPA includes an equation to calculate PBR levels.

Comment 8: One commenter noted that the SARs describe mortality and serious injury that occur as a result of direct interactions with commercial fisheries, but do not address indirect interactions with commercial fisheries, which also may restrict population growth. NMFS should expand the reports to include all human-related factors that could impede population growth or recovery as required by section 117(a)(3) of the MMPA. Although quantitative descriptions of indirect effects will be very difficult, the potential for such effects should be described for each species or stock vulnerable to such effects.

Response: Section 117(a)(3) of the MMPA requires NMFS to, “estimate the annual human-caused mortality and serious injury of the stock by source and, for a strategic stock, other factors that may be causing a decline or impeding recovery of the stock, including effects on marine mammal habitat and prey.” NMFS recognizes the need to identify other factors that may affect a marine mammal population in the Guidelines for Assessing Marine Mammal Stocks (Wade and Angliss 1997): “A statement about habitat issues should be included in the Status section of the Reports, or, if needed, in a separate section titled “Habitat Issues”. If data exist that indicate a problem, they should be summarized and included in the Reports. If there are no known habitat issues for a stock, this should be explicitly stated, as consideration of habitat issues are mandated by the act.” However, NMFS does not have the information necessary to make a statement in the SARs indicating whether habitat issues are or are not of concern for each marine mammal stock. NMFS has been focusing its limited resources on improving estimates of direct interactions with commercial fisheries.

Comment 9: One commenter recommended that NMFS should improve the incorporation of stranding data in fishery mortality estimates for all stocks.

Response: NMFS considers stranding data and incorporates it as appropriate into the SARs. In situations where observer coverage allows calculation of a mortality estimate, it is not appropriate to use stranding data to supplement the mortality estimate if the stranded animal could be included in the projection of a mortality estimate resulting from observer coverage. However, NMFS has used stranding data to supplement mortality estimates if observer coverage is not available or if the stranded animal would not have been included in the mortality estimate from observer coverage.

Comment 10: One commenter recommended that NMFS make every effort to increase compliance with the self-reporting requirements of the MMPA.

Response: NMFS conducts outreach and education to the fishing industry that informs them of the requirement to report incidental mortality and serious injury of marine mammals incidental to commercial fishing activities. To expand these efforts, NMFS would have to redirect funding and staff from other research and conservation needs, such as abundance estimates, observer coverage, or implementation of take reduction plans. Other comments note that these other research and conservation efforts should be expanded.

Comment 11: One commenter stated that NMFS should finalize its definition of serious injury. NMFS should then provide the SRGs with clear guidance, so they may consistently determine what constitutes serious injury and incorporate that into their assessments.

Response: NMFS agrees and will make finalizing the serious injury guidelines a priority.

Comment 12: One commenter suggested that NMFS publish the recommendations made by the SRGs with the SARs, as well as NMFS' plans to implement the recommendations. Additionally, NMFS should include proposed budgets to undertake these programs. Publishing this information could potentially facilitate greater involvement and support from interest groups who are dedicated in their efforts to secure adequate funding for NMFS and its programs.

Response: NMFS will consider the commenter's recommendation to make SRG comments, NMFS response, and budget information more widely available.

Alaska Regional SARs

Comment 13: One commenter stated that the preface to the Alaska SARs should be modified to indicate that descriptions of geographic range, a minimum population estimate, current population trends, current and maximum net productivity rates, optimum sustainable population levels and allowable removals, and estimates of annual human-caused mortality and serious injury are estimated when sufficient data are available.

Response: NMFS will make the recommended change in the preface to the Alaska SARs.

Comment 14: One commenter noted that sections of the SAR for Cook Inlet beluga whales contain different estimates of population abundance. This should be corrected.

Response: The SAR has been corrected to identify 435 whales as the correct estimate of abundance.

Comment 15: One commenter stated that, given the extremely low abundance of the Cook Inlet stock of beluga whales, the recovery factor should be set to 0.1, as recommended by the Alaska SRG or NMFS should provide a justification for the selection of 0.3 based on an analysis of factors that may affect the population in the future.

Response: NMFS determined that it was not appropriate to list this stock under the Endangered Species Act (ESA) in 2000 (65 FR 38778, June 22, 2000). If an ESA listing was determined to be appropriate, NMFS would have considered using the default recovery factor of 0.1, which is typically used for endangered species. NMFS determined that it was appropriate to designate this stock as depleted under the MMPA (65 FR 34590; May 31, 2000). The default recovery factor for a depleted stock is 0.5. However, because of the small size of the population, NMFS decreased the recovery factor from 0.5 to 0.3. A more conservative recovery factor is not necessary because the largest source of mortality, which is from the local subsistence harvest, has greatly decreased since 1999 and is being carefully managed through statutory authority and a co-management agreement between the Cook Inlet Marine Mammal Council and NMFS.

Because the harvest has been limited, direct human-caused mortality is not an important factor for Cook Inlet beluga whales; thus, a lower PBR level would serve no purpose.

Comment 16: One commenter stated that reliable, updated, or improved estimates of abundance are needed for stocks of spotted seal, Pacific white-sided dolphin, Dall's porpoise, sperm whale, all stocks of beaked whales, both stocks of humpback whale, fin whale, minke whale, ribbon seal, North Pacific right whale, and bowhead whale. In addition, estimates for stocks of bearded seal and ringed seal are based on an incomplete survey of their range. This should be rectified.

Response: NMFS has obtained abundance estimates of pinnipeds and cetaceans that are of highest conservation concern, including Steller sea lions, Cook Inlet beluga whales, humpback whales, northern fur seals, harbor seals, killer whales and harbor porpoise. Surveys to collect abundance estimates of other species are conducted as funds are available. Conducting surveys for stocks that are known or strongly suspected to be abundant and broadly distributed are prioritized lower than stocks that are designated as threatened or endangered under the ESA, as depleted under the MMPA, or for which the conservation issues are known or severe. NMFS determines population abundance estimates for all marine mammal stocks as required by the MMPA as resources allow.

NMFS' plans to collect information on the stocks identified by the commenter follow.

Spotted seal, bearded seal, ringed seal: surveys of a portion of each stock's range were conducted during the 1990's. Based on these surveys, other stocks of “ice seals” are suspected to be abundant and broadly distributed across the Arctic based on surveys that include at least a portion of the stock's range. Available information about human-related mortality of these stocks indicates that direct mortality is not likely to negatively affect these stocks in the foreseeable future. Conducting surveys of these stocks is very expensive and likely to be a low priority because there are no immediate conservation concerns. NMFS is currently exploring options for collecting information on stock abundance of these animals using remote sensing.

Ribbon seal: ribbon seals are distributed far offshore in the ice pack during the winter and spring; thus, traditional aerial surveys with a land-based aircraft are unable to census a representative portion of this stock's range. Alternative survey techniques, such as remote sensing or conducting surveys from helicopters based on ice breakers, will have to be explored. Because of these logistic and technological challenges, NMFS does not expect to be able to develop a minimum population estimate for this stock in the near future.

Pacific white-sided dolphin and Dall's porpoise: the most recent abundance estimates for these stocks were based on data collected during 1987-1990 during a vessel survey designed to collect information on cetaceans in offshore waters. At this time, there are no current plans to conduct a similar vessel survey, so new estimates of total abundance should not be expected within the next few years. NMFS will be investigating whether estimates and relative distribution of these stocks in coastal waters might be obtained from a variety of aerial and vessel line-transect surveys conducted in Alaska over the past 10 years.

Humpback whales: humpback whale population size is estimated either by applying mark-recapture techniques to photo-identification data (estimate published in 1997) or by vessel line transect surveys (most recently conducted in 1999). NMFS has supported the collection of one or both types of data annually for many years, and substantial amounts of new information has been collected since the last population estimate was made. NMFS plans to support the analysis of these new data and be able to include a new population estimate in the draft SARs for 2002.

Bowhead whales: Congress provides funding to the North Slope Borough each year to support the collection of information on bowhead whale biology, abundance, and population dynamics. The North Slope Borough completed a census of the population during the spring of 2001. A new abundance estimate based on this census will be included in the draft SARs for 2002.

North Pacific right whales: North Pacific right whales have only recently been documented to be seasonally present in a limited area in the Bering Sea. Both vessel and aerial surveys for this stock have occurred annually since 1996, and additional surveys are planned for 2002. Because NMFS' research on this stock has only recently begun, it will likely be several more years before sufficient information is available to provide a reliable population estimate. In addition, the discreteness of the population in the western North Pacific (e.g., Sea of Okhotsk) and eastern North Pacific remains to be determined.

Fin whales: new information on the abundance of fin whales in a portion of their range has been collected during the past 3-4 years, and additional information will be forthcoming as a result of vessels surveys in the Gulf of Alaska and Bering Sea. However, an abundance estimate of their entire range would require a dedicated vessel survey in the North Pacific. At this time, this type of survey is not being planned. However, the surveys conducted and planned for a portion of their range should be sufficient to calculate a minimum population estimate for a portion of the stock's range within a few years.

Minke whales, sperm whales, and beaked whales: these stocks are broadly distributed over the North Pacific. Ideally, population estimates for these stocks would be based on sightings from dedicated vessel surveys. At this time, this type of survey is not being planned.

Comment 17: One commenter requested that NMFS should improve the estimates of fisheries and subsistence takes. NMFS should aggressively pursue developing and implementing an observer program for those fisheries that have had documented marine mammal takes.

Response: Estimates of incidental mortality of marine mammals from commercial fisheries that are observed are quite good, including the Bering Sea and Gulf of Alaska groundfish trawl and longline fisheries, and the crab pot fisheries. NMFS currently only has funding available to observe one Alaska fishery for marine mammal interactions each year (not including fisheries that are observed for fishery management reasons). Because previous observer programs for the Prince William Sound salmon drift gillnet fishery and self-reported information documented some mortality of marine mammals incidental to salmon gillnet operations in the 1990s, NMFS is rotating an observer program among various gillnet fisheries.

The Cook Inlet set and drift gillnet fisheries were observed in 1999 and 2000. During the two years of the program, no mortalities of any marine mammals were observed, although one serious injury of a harbor porpoise was observed. In 2001, NMFS began working to implement an observer program in the salmon gillnet fisheries around Kodiak Island. That observer program will be fully implemented for the 2002 fishing season. NMFS continues developing the program to rotate among other fisheries in the future.

Reliable subsistence harvest information is available for some species, such as bowhead whales, beluga whales, and fur seals. Subsistence harvest information for harbor seals and Steller sea lions was collected annually by the Alaska Department of Fish and Game Division of Subsistence for several years. There was a hiatus in data collection in the late 1990's because of a lack of funding. A grant was provided to the Alaska Steller Sea Lion and Sea Otter Commission (ASSLOC) for the collection of information on the Steller sea lion subsistence harvest. NMFS will include information on the subsistence harvest provided by the ASSLOC in the draft SAR for 2003. NMFS will continue to work with the Alaskan Native community to collect information on the subsistence use of other species as resources allow.

Comment 18: One commenter stated that it is important to obtain reliable and recent information on the level of mortality that results from native hunting. Another commenter recommended that NMFS continue to pursue co-management agreements with the Alaskan native community that would result in the effective monitoring, reporting, and control of subsistence takes.

Response: NMFS uses the best data available on the level of mortality of marine mammals that results from Alaska Native subsistence harvest. The amount of data available on subsistence harvests varies widely by species. For example, data on harbor seal and Steller sea lion subsistence harvest has been collected by the Alaska Department of Fish and Game nearly annually at all villages that hunt these species at least since 1996. Collection of data on ice seal subsistence harvest by the Alaska Department of Fish and Game has occurred less frequently, and are only available for some villages during some years. Preliminary information on ice seal harvest levels were presented to the Alaska SRG in 2001, but the data were too preliminary to include in the 2001 SARs. This information will be included in the draft 2002 SARs.

NMFS has aggressively pursued co-management agreements for stocks such as Cook Inlet beluga whales and the three Alaska harbor seal stocks because of known declines in all or a portion of the stock's respective ranges. NMFS will pursue other co-management agreements as resources allow.

Comment 19: One commenter requested that the SAR for the eastern stock of Steller sea lions should include data on take in the Canadian fisheries and in the Canadian subsistence harvest.

Response: The draft SAR for 2001 indicates that an average of about 41 Steller sea lions per year are intentionally killed in the British Columbia aquaculture predator control program. NMFS is not aware of any additional intentional or incidental mortalities of Steller sea lions in Canadian fisheries, although NMFS formally requested such information from the Department of Fisheries and Oceans Canada. Additional information on mortalities in Canadian waters will be included in the SARs when it becomes available.

Comment 20: One commenter stated that the magnitude of intentional killing, disturbance, and illegal fishing on the high seas on the eastern Pacific stock of northern fur seals is unknown. Stranding data and other information should be collected to develop a better understanding of this situation and its effect on the population.

Response: Stranding data are already collected and reported routinely in the SARs for northern fur seals and for all other marine mammal stocks in Alaska.

Comment 21: One commenter stated that NMFS should evaluate the current divisions between the Alaska harbor seal stocks and redefine these stocks in accordance with new harbor seal genetic information. In addition, new abundance estimates should be incorporated into the SARs.

Response: NMFS now has sufficient information on the genetics of harbor seals in Alaska to be confident that the current boundaries between the stocks are incorrect. However, sufficient information is not yet available to identify new stock boundaries. NMFS, in cooperation with the Alaskan Native community, is working to identify the new stock boundaries and provide new abundance estimates for all Alaska harbor seal stocks in the draft SARs for 2003.

Comment 22: One commenter stated that NMFS should work with Alaskan Natives to finalize the co-management agreement for Cook Inlet beluga whales and to ensure that the subsistence harvest level is below the PBR level.

Response: Co-management agreements for Cook Inlet beluga whales were signed in 2000 and 2001. NMFS is working with Alaskan natives on a long-term agreement to co-manage the harvest.

Comment 23: One commenter stated that NMFS should continue to improve observer coverage of the Cook Inlet purse seine and gillnet fisheries, increase compliance for self reporting, and monitor the subsistence harvest to improve the estimates of mortality from these sources.

Response: See response to comments 1 and 17 regarding observer coverage. There is no evidence at this time that monitoring of the subsistence harvest of beluga whales in Cook Inlet needs to be improved. See response to comment 10 regarding improvements to compliance with self-reporting.

Comment 24: One commenter stated that NMFS should revise the SAR for Dall's porpoise and divide it into at least two stocks based on genetics data indicating delineation between animals in the Bering Sea and the Gulf of Alaska and based on the phylogeographic criteria outlined in Dizon et al (1992).

Response: NMFS will provide a revised SAR for Dall's porpoise in the draft SARs for 2003 and will consider this recommendation at that time.

Comment 25: One commenter stated that NMFS should intensify efforts to assess the magnitude of harbor porpoise mortality in Alaskan gillnet fisheries. The mortality estimates reported in the SARs are minimum estimates and the actual mortality level could be approaching the PBR level.

Response: See response to comments 1 and 17 regarding the rotation of marine mammal observer programs in Alaskan commercial fisheries.

Comment 26: One commenter stated that the PBR level for North Pacific right whales should be set at zero as it is likely the most endangered population of large whales in the world.

Response: Despite having insufficient information to estimate the abundance of this stock, NMFS is confident that the stock size is quite small. The PBR level will remain “undetermined” in the 2001 SARs, but NMFS will propose to change the PBR level to zero in the draft SARs for 2002.

Comment 27: One commenter requested that estimates of the subsistence harvest of bowhead whales since 1996 be included in the SAR.

Response: Estimates of the subsistence harvest for 1995-1999 were included in the draft SAR for 2001 in the section entitled “Subsistence/Native Harvest Information”.

Comment 28: One commenter noted that several of the SARs contain the phrase “It is not possible to produce a reliable estimate of abundance for this stock, as a current estimate of abundance is not available.” This is redundant and should be corrected.

Response: NMFS agrees and will change the text in the SARs as are they are reviewed and revised.

Comment 29: One commenter stated that the western U.S. stock of Steller sea lions continues to decline in abundance. Because of this, the recovery factor should be set to zero, as is done with other stocks which are declining in abundance (e.g. North Atlantic right whales). Furthermore, NMFS uses a default of 0.5 for the maximum rate of reproduction. This stock is declining, and so its rate of reproduction would appear to be a negative number.

Response: The recovery factor for the western stock of Steller sea lions has been set to 0.1 as recommended by the Alaska SRG in 1998. This is the lowest value for a recovery factor allowed under the MMPA. The recovery factor for North Atlantic right whales is also 0.1.

The PBR level for North Atlantic right whales was set at zero because the stock is very small in size (<300 animals) and the reproductive rate is naturally very low. Despite the decline of the western stock of Steller sea lions, the population includes over 30,000 animals and has a reproductive rate that is substantially higher than that for right whales. The likelihood of extinction of the western stock of Steller sea lions is considerably lower than the likelihood of extinction of North Atlantic right whales. Thus, NMFS does not set the PBR level for the western stock of Steller sea lions to zero.

Comment 30: One commenter stated that the high level of Alaskan Native subsistence harvest of Steller sea lions should be immediately addressed.

Response: See the response to comment 17 regarding the availability of information on the subsistence harvest of Steller sea lions. NMFS continues to work with the Alaskan Native community to determine what, if anything, should be done to manage the level of subsistence take of Steller sea lions.

Comment 31: One commenter noted that the SAR for spotted seals indicates that no estimates of mortality in the subsistence harvest are available after 1995. This should be remedied immediately, particularly since the stock assessment states that the reported estimate underestimates the statewide total.

Response: A source of information on subsistence harvest of ice seals has been located and revised estimates will be provided in the draft SARs for 2002.

Comment 32: One commenter noted that native hunting of beluga whales in the eastern Bering Sea stock through 1997 is reported to average 121 whales per year. This harvest level is very close to the PBR level for this stock, and the level in some years has exceeded the PBR. This situation requires immediate management attention.

Response: NMFS realizes that the average harvest level is near the PBR level and that the annual level of subsistence harvest has occasionally been above the PBR level. Although it is not appropriate for NMFS to manage subsistence harvest based solely on comparisons between the subsistence harvest level and the PBR level, NMFS has worked closely with the Alaska Beluga Whale Commission to insure that animal removals are sustainable as required by the by-laws of the Alaska Beluga Whale Commission.

Comment 33: One commenter noted that the SAR for gray whales makes no mention of the elevated number of strandings of gray whales that occurred in 1999 and 2000. This phenomenon should be discussed.

Response: NMFS did not revise the SAR for gray whales in 2001. The elevated number of strandings will be discussed in the draft SAR for 2002.

Comment 34: One commenter commended NMFS for including new information in the draft SAR for the western North Pacific humpback whale that indicates humpback whale meat is being sold in Japanese markets. Unless there is sufficient information to indicate that the whale meat is from animals solely in this stock, statements regarding the sale of meat should also be added to the SAR for the central North Pacific stock of humpback whales.

Response: NMFS will review the available information and, if appropriate, add the statements regarding the sale of meat to the SAR for the central North Pacific stock of humpback whales.

Comment 35: One commenter stated that it is likely that the numbers of entanglements and ship strikes incurred by the central North Pacific stock of humpback whales is higher than reported in the draft SAR because the animals are primarily in populated areas and much of coastal Alaska is sparsely populated.

Response: All available information about the actual level of entanglements and ship strikes of humpback whales is provided in the SAR. Additional information will be incorporated in the SAR as it becomes available.

Comment 36: The stock assessment report for the Eastern North Pacific, Northern Resident Stock of Killer whales states that this stock, or portions of it, “where apparently approaching carrying capacity since the rates of increase appeared to be slowing.” The commenter recommends that the statement about carrying capacity be deleted from the SAR because there are a number of reasons for rates of increase slowing.

Response: This conclusion cited in the SAR was reported in a workshop report (Dahlheim et al., 2000). As this is one reasonable hypothesis for a decline in the population growth rate, the statement will remain in the SAR. However, the commenter is correct that there may be other hypotheses for the decline in the population growth rate, and NMFS revised the SAR to clarify that point.

Atlantic Regional SARs

Comment 37: One commenter noted that Sei whales have not been surveyed for almost 20 years and the estimate in the SAR probably does not reflect current abundance. New surveys should be conducted to estimate abundance for this stock.

Response: NMFS agrees. However, funding for such surveys is currently unavailable.

Comment 38: One commenter stated that the PBR level for blue whales should be set to zero given that the abundance estimate is more than 10 years old. New surveys should be conducted.

Response: NMFS guidelines state that if abundance estimates are more than eight years old or are unavailable, then the PBR level is considered to be unknown, but not zero (Wade and Angliss 1997). The text of the SAR has been amended to reflect this. However, it is important to note that blue whales are very rarely found in US Atlantic waters, and, therefore, the PBR issue is of limited importance because no U.S. fisheries are involved in the incidental mortality or serious injury of blue whales.

Funding for blue whale abundance surveys is currently unavailable. Furthermore, obtaining useful survey results for blue whales would be difficult given that little is known about population structure. The southernmost limit of this stock's range is the Scotian Shelf in Canadian (not U.S.) waters, and it is not clear how the animals found on the Scotian Shelf relate to animals in other areas. NMFS plans to conduct a survey of the entire Scotian Shelf in the summer of 2002 to follow up on recommendations made by the recent International Whaling Commission Comprehensive Assessment of North Atlantic Humpback Whales and the need to further define the humpback population on the Scotian Shelf. Blue whale surveys would be a secondary part of this effort, but are unlikely to yield enough information to resolve either abundance or population structure issues for this stock of blue whales.

Comment 39: One commenter recommended that NMFS include Canadian fishery-related mortality in the total annual estimated average fishery-related mortality for the Canadian East Coast stock of minke whales.

Response: NMFS will investigate if sources of information about Canadian mortalities other than those already reported in the SAR are available for including in future SARs.

Comment 40: One commenter recommended that NMFS continue to improve population abundance and bycatch mortality estimates for beaked whales and study the impacts of acoustic pollution on these and other marine mammals.

Response: NMFS has designated beaked whales as high priority species to sample (e.g., photographs, tissues, body measurements) in the fishery observer sampling manual, to obtain biological and human interaction data on stranded beaked whales, and to photograph and collect biopsy samples of during abundance surveys. Collected tissue samples are analyzed for genetic studies. Genetic and photographic data have been used to confirm or correct initial species identification of bycatches, abundance survey sightings, and strandings.

NMFS is coordinating with other agencies and researchers to answer the most critical questions related to the impacts of acoustics on marine mammals. NMFS is currently working with the Navy to resolve the effects of noise on marine mammal hearing and behavior.

Comment 41: One commenter recommended that NMFS continue to improve population abundance and bycatch mortality estimates for long-finned pilot whale and short-finned pilot whales.

Response: Assessing pilot whale fishery bycatch, strandings, and obtaining photographs and biopsy samples during abundance surveys are high priorities for NMFS. Because at-sea identification of pilot whales is difficult, fishery observers are requested to assign undifferentiated species identification to bycaught animals that are not photographed or sampled. Genetic and photographic data have been and will continue to be used to confirm or correct initial species identification of bycatches, abundance survey sightings, and strandings.

Comment 42: One commenter recommended that NMFS continue to pursue spotted dolphin stock identification studies, and species identification of the bycatch of common dolphin, Atlantic spotted dolphin, Pantropical spotted dolphin, and Striped dolphin.

Response: Sampling spotted dolphins is a high priority. Tissue samples obtained from bycatches, research vessel, and stranding events are processed and analyzed by NMFS. Genetic and photographic data have been used to confirm or correct initial species identification of bycatches, abundance survey sightings, and strandings.

Comment 43: One commenter stated that the stock assessments for harbor seals, gray seals, and harp seals are inadequate because they lack reliable population abundance data.

Response: NMFS has taken and is taking the following steps to improve population abundance data and stock assessments for these species. In the spring of 2001, NMFS and the University of Maine conducted harbor seal studies (radio tagging and replicate aerial surveys) designed to obtain a more precise estimate of harbor seal abundance. Also, all haulout sites containing gray seals were surveyed and photographed. Survey data are being analyzed and will be submitted to the SRG in mid-2002 for review.

From the autumn of 2001 to the spring of 2002, NMFS will be monitoring harbor seal and gray seal seasonal abundance in southern New England. Also, NMFS is collecting harbor seal and gray seal tissue samples for stock studies. An unknown, and perhaps significant, fraction of the gray seals seasonally residing in U.S. waters are migrants from Canada.

Harp seal population estimates are obtained from Canadian Department of Fisheries and Oceans (DFO) scientific reports. DFO scientists employ results of pup surveys (e.g., pup production) in models to estimate total abundance and population trends. Recently, survey design, modeling techniques and data sets (e.g., shoot/lost statistics, fishery bycatch) have been critiqued by several international scientific panels. NMFS staff have participated in some of these reviews. Based on panel findings, population estimates and trends have been revised and incorporated into the SARs.

As noted, the western North Atlantic harp seal population is centered in eastern Canada. Harp seals are highly migratory, and seasonally a small number of juveniles disperse southward into U.S. waters. Although bycatch occurs in U.S. fisheries, there is not a sound methodology for assessing seals at sea.

Comment 44: One commenter stated that there should be updated literature citations for right whales through 2000.

Response: It is not clear to what literature the commenter is referring. Many of the right whale papers produced in 1999 and 2000 are due to be published in the International Whaling Commission Special Issue volume on right whales, to appear in the fall of 2001. This new information will be incorporated into the 2002 SAR as appropriate.

Comment 45: One commenter stated that the PBR level for humpback whales has been exceeded if it is assumed that all mid-Atlantic mortalities are from the Gulf of Maine stock.

Response: The commenter is correct. However, NMFS does not know whether the mid-Atlantic mortalities occurred to the Gulf of Maine stock. A NMFS-sponsored study (Barco et al. 2001) determined that humpback whales observed in the mid-Atlantic are not all from the Gulf of Maine stock. A survey is planned for the spring of 2002 that will collect biopsies and photographs of humpback whales to better evaluate whether the Gulf of Maine stock is occurring in the mid-Atlantic and therefore could be subjected to the fishery-related mortality that has occurred in that area.

Comment 46: One commenter noted that a humpback whale named Zenith was struck by a whale-watching vessel in 1998 and has not been seen since (except for 3 weeks after the incident). It should be reported as a serious injury.

Response: NMFS is reviewing this case. Any change in the determination will be incorporated into the SAR.

Comment 47: One commenter noted that the sei whale recovery plan is cited as “in effect in early 2000”, yet it is now well beyond that date, and the plan is still not in place.

Response: The commenter is correct. The plan has not yet been released due to legal issues. The SAR text has been amended accordingly.

Comment 48: One commenter stated that NMFS should not imply that the reduction in harbor porpoise bycatch is a consequence of the take reduction plan.

Response: The text was modified so as not to attribute the reduction to any particular action, but to a combination of the marine mammal and fish management plans that were put into place.

Comment 49: One commenter stated that it is inappropriate to lump Cuvier's beaked whale and Mesoplodon complex whales and manage them as a single stock.

Response: NMFS supports the goal of providing species specific abundance estimates. Observers participating in abundance surveys are instructed to collect descriptive, behavioral, and photographic data, as feasible, for each beaked whale sighting. Attempts to collect at-sea biopsy samples will continue. The current assessment contains revised mortality estimates by species for some years.

Comment 50: One commenter recommended that the section on human-induced mortality of harbor seals be revised to include all non-fishery related mortality.

Response: The estimate of the total human-caused mortality will be corrected to include non-fishery mortality contained in the draft 2001 assessment. Although, shooting of harbor seals at Maine salmon aquaculture sites has been suggested, NMFS' documentation to confirm and quantify mortality is not available. NMFS is aware of the University of Maine seal/salmon interaction project. If University of Maine researchers provide data on the number of seals shot around salmon pens, these data will be included in future SARs. NMFS staff have made inquiries to the DFO regarding statistics on the number of harbor seals shot at aquaculture sites. However, to date NMFS has not received any official information. NMFS agrees that all sources of human induced mortality or serious injury should be included in the SARs. However, it is not appropriate to include anecdotal data in the summary chart.

Comment 51: One commenter recommended that the section on human induced mortality of gray seals be revised to include all non-fishery related mortality.

Response: NMFS agrees that all directed and incidental mortality for the stock should be included in the SAR, and the statistics for the total human-caused mortality will be corrected to include non-fishery mortality. If current statistics on human-induced mortality in Canadian waters are available, they will also be included in the SAR.

Comment 52: One commenter recommended that the section on human-induced mortality of harp seals be revised to include all non-fishery related mortality. Also, the commenter noted pertinent references that should be cited and considered in the assessment.

Response: The statistics for the total human-caused mortality will be corrected to include non-fishery mortality. The statistics on the Canadian hunt and fishery bycatch are updated if data are available when the draft SAR is produced. New and significant reports were reviewed and incorporated into the final report.

Comment 53: One commenter recommended that the western North Atlantic coastal bottlenose dolphin stock assessment include a sentence indicating that this is a strategic stock, not only because it is listed as depleted under the MMPA, but also because fishery-related mortality and serious injury exceeds the PBR.

Response: The clarification will be added to the SAR.

Comment 54: One commenter recommended revising abundance estimates for the coastal stock of bottlenose dolphins.

Response: The SAR for the North Atlantic coastal stock of bottlenose dolphins is in the process of being revised for the draft 2002 SARs, including information on all recent mortality estimates.

Comment 55: One commenter stated that additional data on the stock structure of coastal and offshore western North Atlantic bottlenose dolphin stocks is needed.

Response: NMFS agrees. Research efforts will continue to focus on answering questions related to stock structure, abundance, and fishery-related mortality of Atlantic coastal bottlenose dolphins.

Comment 56: Two commenters noted that stock assessment for the bottlenose dolphins in the Gulf of Mexico bays, sounds and estuaries have not been updated. One of the commenters suggested NMFS continue to work with stranding networks to recognize signs of fishery interactions on stranded animals.

Response: There are no new data available to make significant changes in these stock assessments. Work will continue on training stranding network volunteers to recognize and report fishery-related strandings.

Comment 57: One commenter noted that more recent abundance estimates are needed for the Northern Gulf of Mexico dwarf and pygmy sperm whales.

Response: NMFS is aware that the abundance estimates for pygmy and dwarf sperm whales, as well as other cetaceans, in the Gulf of Mexico are old and that it would be helpful to obtain new estimates.

Comment 58: One commenter urged re-examination of the stranding data and inclusion of fishery mortality estimates for strandings which may be fishery related, as it pertains to dwarf and pygmy sperm whales in the Northern Gulf of Mexico.

Response: A review of stranding data showed no Kogia spp. strandings in the Gulf of Mexico with confirmed human interactions, including fishery interactions, from 1997 through 2000.

Comment 59: One commenter recommended including assessments of stocks under the jurisdiction of the FWS in the final stock assessments, as was proposed by the Alaska region.

Response: NMFS has contacted the FWS requesting information on the West Indian manatee for inclusion in the 2001 SAR. FWS responded in early November that a draft revised stock assessment for that stock of manatee should be available for SRG review in the winter of 2002. This information will be included in the 2002 SAR.

Pacific Regional SARs

Comment 60: Two commenters noted that updated estimates of abundance are needed for many U.S. west coast stocks, and that stocks from the Hawaiian Islands region suffer from a paucity of data.

Response: NMFS has taken and is taking the following steps to update cetacean abundance for waters around the Hawaiian Islands. Plans for a comprehensive ship survey of cetaceans in these waters have been delayed due to ship-time requirements of other Congressionally mandated research. A cetacean survey of the Hawaiian Exclusive Economic Zone is planned for summer/autumn 2002. In the interim, NMFS has collaborated with Hawaiian researchers in the analysis of near-shore cetacean aerial surveys and is funding a small cetacean research project in the mid-island area. A line-transect survey of the U.S. west coast out to 300 nautical miles was conducted from July-December of 2001 and updated estimates of abundance for those stocks will be updated after completion of the cruise and analysis of the data.

Comment 61: One commenter requested more specific information on the depth distribution and distance from shore of California coastal bottlenose dolphins with an emphasis on whether or not coastal gillnet fisheries may still interact with this stock.

Response: Behavioral studies on southern California coastal bottlenose dolphins have shown that animals spend 90% of the time within 250 meters of the shoreline and 99% of their time within 500 meters. Gillnet fishing within 3 nautical miles of shore has been banned in southern California since 1994 and set gillnet fishing inshore of 60 fathoms from Point Reyes to Point Arguello was eliminated in 2001 by the California Department of Fish and Game. Clarification of these facts has been added to the 2001 SAR.

Comment 62: One commenter noted that the southern resident stock of killer whales has been listed as “threatened” in Canada, yet this is not mentioned in the Status of the Stock section of the SAR.

Response: The draft 2001 stock assessment included the following statement in the “Status of Stock” section: “In April 1999, Canada's Committee on the Status of Endangered Wildlife in Canada (COSEWIC) listed resident killer whales in British Columbia as “threatened,” i.e., likely to become “endangered” if limiting factors are not reversed (Baird 1999). In June 2000, the Washington Department of Fish and Wildlife designated killer whales in Washington State as a “state candidate species” (a species that the Department will review for possible listing as “state endangered, threatened, or sensitive”).”

Comment 63: One commenter stated that the discussion of the status of the southern resident stock of killer whales should be updated to reflect the continued population decline and the petition to list the stock under the ESA.

Response: NMFS agrees and will update information on the status of this stock in the draft 2002 stock assessment and add the following text to the “Status of Stock” section in the final 2001 stock assessment: “On 2 May 2001, NMFS received a petition from the Center for Biological Diversity and 10 co-petitioners (an 11th co-petitioner was added on 16 July 2001) to list the Eastern North Pacific Southern Resident stock of killer whales as an endangered or threatened species under the ESA and to designate critical habitat for this stock under that act. On 13 August 2001 (66 FR 42499), NMFS determined that the petition presented substantial scientific information indicating that a listing may be warranted; thus, NMFS is required to conduct an ESA status review of the stock and issue a report on its findings by 2 May 2002. NMFS established a Biological Review Team for this purpose in late August 2001.”

Comment 64: Two commenters recommended that the PBR level for Hawaiian monk seals remain at zero.

Response: The concern over an apparent change of the PBR level from zero to five Hawaiian monk seals is based on a misunderstanding of a sentence NMFS deleted from the draft SAR: “However, the Endangered Species Act takes precedence in management of this species and, under the Act, allowable take is 0.” It was because of the confusion between the PBR level and the concept of allowable take under the ESA that this sentence was deleted. The PBR level is a legal term, which by itself does not authorize any take, but is instead the maximum number of marine mammals that may be removed from a stock while allowing that stock to reach its optimum sustainable population. The PBR level is determined from the formula in section 3(20) of the MMPA (16 U.S.C. 1362(20)). Based upon this formula, the PBR level for Hawaiian monk seals has been calculated for this year, as for the last two years, at 5. The deleted sentence did not state that the PBR level had become zero, but rather emphasized that the PBR itself does not authorize take of Hawaiian monk seals.

As noted above, the PBR level is generated from an MMPA process, and it thus remains reported as such in the SAR. However, new revisions to the PBR section of the SAR discuss the concerns regarding the current lack of growth in the population.

Comment 65: One commenter noted that the section on the fishery mortality in the Hawaiian monk seal SAR discusses the fact that persons with State permits are not required to submit data on protected species bycatch. This is a Federal requirement, and NMFS should work with the state to remedy discrepancies.

Response: Serious injury and mortality forms will be sent to the fishery permit holders, and by law, participants in the fishery are required to report serious injury/mortalities within 48 hours of return.

Comment 66: One commenter noted that in the SAR for Hawaiian monk seals there is a statement that fishery interactions with the species “remain to be thoroughly evaluated...” However, the stock assessment cites a 1993 paper by Nitta and Henderson that found one “event” per 34.4 hours of fishing. This sort of study should be repeated with a better attempt to obtain confidence intervals. A brief discussion of efforts that are underway would help in understanding whether these impacts are being assessed and/or addressed. The commenter requested an evaluation of fishery impacts.

Response: With regard to the bottomfish fishery, NMFS is discussing and planning for increased observer coverage. Also, new data forms for observers are being developed to collect more information on protected species. However, the type and degree of observer coverage needed in the bottomfish fishery has yet to be determined.

Comment 67: One commenter recommended that the SAR for Hawaiian monk seals include discussion of some of the research alluded to in previous stock assessments including scat analysis and at-sea tracking. This research had been recommended since at least 1995.

Response: An extensive study of at-sea movements of monk seals was funded and resumed in 2000. Because this SAR only covers information through 1999, this information is not included. A description of the study will appear in the 2002 SAR. No new reports or data summaries are available at this time.

Comment 68: One commenter noted that, although it appears that 246 Hawaiian monk seals have been entangled since 1982, there is little discussion as to when many of these entanglements were observed and no speculation on average annual serious injury and mortality. It is also not clear from the text whether this number is separate from or inclusive of later discussion of monk seals hooked in the pelagic longline fishery and recreational fisheries.

Response: The SAR does not state that 246 seal entanglements in marine debris have occurred. Rather, the report notes that there have been 197 entanglements observed, plus 6 deaths attributed to entanglement in debris. A parenthetical phrase indicating that the three longline hookings are included in the total count of hookings has been added. A reference to a newly published paper has also been added to the revised report, which summarizes the data on entanglement in detail.

Dated: March 4, 2002.
David Cottingham,
Deputy Director, Office of Protected Resources, National Marine Fisheries Service.

[FR Doc. 02-5617 Filed 3-7-02; 8:45 am]

BILLING CODE 3510-22-S